DEPARTMENT OF ENERGY

Federal Energy Regulatory Commission

[Docket No. DI02-3-002]

AquaEnergy Group Ltd.; Notice of Combined Initial Information Meeting and Scoping Meeting, Site Visit, and Solicitation of Scoping Comments

August 8, 2003.

The Federal Energy Regulatory Commission's (Commission) regulations allow applicants to prepare their own Environmental Assessment (EA) for hydropower projects and file it with the Commission along with their license application as part of an alternative licensing procedure (ALP).¹ On July 22, 2003, the Commission noticed the request of AquaEnergy Group Ltd. (AquaEnergy) to use the ALP and set a deadline for comments of August 21, 2003. AquaEnergy wishes to hold combined Initial Information/Scoping Meetings on August 26 and 27, 2003. Because the Commission will need ample time to fully consider comments received from interested stakeholders on AquaEnergy's request to use the ALP, the Commission may not have decided on AquaEnergy's request to use the ALP prior to the combined meetings. However, the ALP allows greater flexibility than the traditional licensing process, and the Commission believes that it is in the public interest to solicit scoping comments in this notice. The Commission has not pre-judged AquaEnergy's request to use the ALP.

¹ 81 FERC ¶ 61,103 (1997).

Public Meeting and Site Visit

AquaEnergy distributed a combined Initial Information Package (IIP)/Scoping Document 1 (SD1) for the Makah Bay Offshore Wave Energy Pilot Project on August 5, 2003, to the mailing list for this proceeding. AquaEnergy will hold combined Initial Information/Scoping Meetings on Tuesday, August 26 and Wednesday, August 27, 2003. The purposes of the meetings are to review the information presented in the IIP/SD1 and to initiate the identification of areas of interest that should be addressed in the licensing and any related Applicant-Prepared Environmental Assessment (APEA) processes. The meetings will be held as follows:

Agency Meeting

When: Tuesday, August 26, 2003, 5 p.m.-6 p.m.

Where: Makah Tribal Offices, Neah Bay, Washington.

Public Meeting

When: Tuesday, August 26, 2003, 7 p.m.—9 p.m.

Where: Makah Tribal Community Center, Neah Bay, Washington.

Public Meeting

When: Wednesday, August 27, 2003, 7 p.m.-9 p.m.

Where: Clallam County Public Utility District, 2431 Highway 101 East, Port Angeles, Washington.

AquaEnergy will also conduct a site visit to the project on Tuesday, August 26, 2003. Those wishing to attend the site visit should meet at Makah Tribal Council Offices in Neah Bay, Washington. Please RSVP Mary Jane Parks, AquaEnergy, at (626) 253-1981, if you plan to attend the site visit.

The deadline for filing comments is September 26, 2003. All documents (an original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's Web site (http://www.ferc.gov) under the “e-Filing” link.

The Commission's Rules of Practice and Procedure require all interveners filing documents with the Commission to serve a copy of that document on each person on the official service list for the project. Further, if an intervener files comments or documents with the Commission relating to the merits of an issue that may affect the responsibilities of a particular resource agency, they must also serve a copy of that document on that resource agency.

Based on feedback received on the IIP/SD1 and the project site visit, AquaEnergy will prepare a Scoping Document 2 (SD2). SD2 will include a revised list of issues based on the meeting and written comments. AquaEnergy expects to issue SD2 on October 27, 2003.

All interested individuals, organizations, and agencies are invited and encouraged to attend the meetings and site visit and to assist in the identification of environmental issues that should be included in SD2.

We are asking federal, state, local, and tribal agencies with jurisdiction and/or special expertise with respect to environmental issues to cooperate with us in the preparation of the Commission's EA. Agencies who would like to request cooperating agency status should file such a request (original and eight copies) with the Secretary at the aforementioned address. Please put the docket number, DI-02-3-002, on the first page of your filing.

For further information regarding the informational and scoping meeting and project site visit or to be added to the mailing list for the project, please contact Ms. Mary Jane Parks of AquaEnergy or Nicholas Jayjack of the Commission's staff at (202) 502-6073.

A copy of the IIP/SD1 is available for review at the Commission in the Public Reference Room or may be viewed on the Commission's Web site http://www.ferc.gov using the “FERRIS” link. Enter the docket number (DI02-3) in the docket field to access the document. For assistance, contact FERC Online Support at FERCOnlineSupport@ferc.gov or toll free at 1-866-208-3676 or for TTY, (202) 502-8659.

You may also register online at http://www.ferc.gov. /esubscribenow.htm to be notified via email of new filings and issuances related to this or other pending projects. For assistance, contact FERC Online Support.

Magalie R. Salas,
Secretary.

[FR Doc. 03-20972 Filed 8-15-03; 8:45 am]

BILLING CODE 6717-01-P